DEPARTMENT OF COMMERCE

International Trade Administration

[A-570-867]

Notice of Final Results of Antidumping Duty Changed Circumstances Review: Automotive Replacement Glass Windshields From the People's Republic of China

AGENCY: Import Administration, International Trade Administration, U.S. Department of Commerce.

ACTION: Notice of Final Results of Antidumping Duty Changed Circumstances Review.

SUMMARY: On March 8, 2004, the Department of Commerce (“Department”) published a notice of initiation of changed circumstances review of the antidumping duty order on Automotive Replacement Glass (“ARG”) Windshields from the People's Republic of China (“PRC”) to determine whether Shenzhen CSG Automotive Glass Co., Ltd. (“Shenzhen CSG”) is the successor-in-interest to Shenzhen Benxun AutoGlass Co., Ltd. (“Shenzhun Benxun”) for purposes of determining antidumping liabilities. See Initiation of Antidumping Duty Changed Circumstances Review: Automotive Replacement Glass Windshields from the People's Republic of China, 69 FR 10655 (March 8, 2004) (“Notice of Initiation”). On June 7, 2003, the Department published its preliminary results of this changed circumstance review and preliminarily determined that Shenzhen CSG is the successor-in-interest to Shenzhun Benxun, for purposes of determining antidumping duty liability in this proceeding. See Notice of Preliminary Results of Antidumping Duty Changed Circumstances Review: Automotive Replacement Glass Windshields from the People's Republic of China, 69 FR 31789 (June 7, 2004) (“Preliminary Results”). We provided interested parties an opportunity to comment on the preliminary results. We did not receive any comments. Therefore, the final results of review do not differ from the preliminary results of review.

EFFECTIVE DATE: July 20, 2004.

FOR FURTHER INFORMATION CONTACT: Jon Freed or Robert Bolling, Import Administration, International Trade Administration, U.S. Department of Commerce, 14th Street and Constitution Avenue, NW., Washington, DC 20230; telephone (202) 482-3818 or (202) 482-3434, respectively.

SUPPLEMENTARY INFORMATION:

Background

On April 4, 2002, the Department of Commerce (“the Department”) published in the Federal Register the antidumping duty order on ARG windshields from the PRC. See Antidumping Duty Order: Automotive Replacement Glass Windshields from the People's Republic of China, 67 FR 16087 (April 4, 2002). On April 7, 2003, the Department published a notice of opportunity to request an administrative review of the antidumping duty order on ARG windshields from the PRC for the period September 19, 2001, through March 31, 2003. See Antidumping or Countervailing Duty Order, Finding, or Suspended Investigation; Opportunity to Request Administrative Review, 68 FR 16761 (April 7, 2003). On April 30, 2003, the Department received a letter on behalf of Shenzhen CSG requesting an administrative review of its sales and entries of subject merchandise. In its request, Shenzhen CSG indicated that it had undergone a name change, and that it had formerly been known as Shenzhen Benxun. Shenzhen Benxun was a respondent in the original investigation of this case. The request for review did not include a request for a changed circumstance review to determine whether Shenzhen CSG was in fact a successor in interest to Shenzhen Benxun.

On May 21, 2003, in response to timely requests from respondents subject to the order on ARG windshields from the PRC, the Department published in the Federal Register a notice of initiation of an antidumping duty administrative review of sales by ten respondents, including Shenzhen CSG (formerly known as Shenzhen Benxun) of ARG windshields from the PRC for the period September 19, 2001, through March 31, 2003. See Initiation of Antidumping and Countervailing Duty Administrative Reviews and Request for Revocation in Part, 68 FR 27781 (May 21, 2003). On June 3, 2003, the Department issued antidumping duty questionnaires to the ten respondents, including Shenzhen CSG (formerly known as Shenzhen Benxun). On July 8, 2003, the Department received a letter from Shenzhen CSG (formerly known as Shenzhen Benxun) withdrawing its request for an administrative review of its sales and entries of subject merchandise exported to the United States and covered by the antidumping duty order on ARG windshields from the PRC. On September 8, 2003, the Department published in the Federal Register a notice of partial rescission of the administrative review on ARG windshields from the PRC, which included a rescission of the administrative review of sales and entries from Shenzhen CSG (formerly known as Shenzhen Benxun). On December 29, 2003, the Department instructed Customs and Border Protection (“Customs”) to liquidate entries from Shenzhen Benxun at its company-specific rate, but to liquidate entries from Shenzhen CSG at the PRC-wide rate because the Department never had an opportunity to determine whether Shenzhen CSG was a successor-in-interest to Shenzhen Benxun. On January 12, 2004, the Department received a letter on behalf of Shenzhen CSG (formerly known as Shenzhen Benxun) requesting the Department to amend its instructions that it sent to Customs that direct Customs to liquidate all of Shenzhen CSG's entries at the PRC-wide rate. Shenzhen CSG asserted that Shenzhen Benxun changed its name to Shenzhen CSG and that entries from Shenzhen CSG should be entitled to Shenzhen Benxun's cash deposit rate.

On March 8, 2004, the Department published a notice of initiation of changed circumstances review of the antidumping duty order on ARG Windshields from the PRC to determine whether Shenzhen CSG is the successor-in-interest to Shenzhun Benxun for purposes of determining antidumping liabilities. See Notice of Initiation. On March 17, 2004, the Department issued a successorship questionnaire to Shenzhun Benxun. Shenzhen Benxun submitted its response to the Department's successorship questionnaire on April 6, 2004 (“Shenzhen Benxun's Response”). On June 7, 2003, the Department published its preliminary results of review and preliminarily determined that Shenzhen CSG is the successor-in-interest to Shenzhun Benxun, for purposes of determining antidumping duty liability in this proceeding. See Preliminary Results. The Department did not receive any comments regarding its preliminary results of review.

Scope of the Review

The products covered by this review are ARG windshields, and parts thereof, whether clear or tinted, whether coated or not, and whether or not they include antennas, ceramics, mirror buttons or VIN notches, and whether or not they are encapsulated. ARG windshields are laminated safety glass (i.e., two layers of (typically float) glass with a sheet of clear or tinted plastic in between (usually polyvinyl butyral)), which are produced and sold for use by automotive glass installation shops to replace windshields in automotive vehicles (e.g., passenger cars, light trucks, vans, sport utility vehicles, etc.) that are cracked, broken or otherwise damaged.

ARG windshields subject to this review are currently classifiable under subheading 7007.21.10.10 of the Harmonized Tariff Schedules of the United States (HTSUS). Specifically excluded from the scope of this investigation are laminated automotive windshields sold for use in original assembly of vehicles. While HTSUS subheadings are provided for convenience and Customs purposes, our written description of the scope of this review is dispositive.

Final Results of the Changed Circumstances Review

In its Preliminary Results, the Department preliminarily determined that Shenzhen CSG should be given the same antidumping duty treatment as Shenzhen Benxun. The Department did not receive any comments from interested parties. Therefore, the Department has determined that Shenzhen CSG is the successor-in-interest to Shenzhen Benxun. Consequently, we have determined that Shenzhen CSG will receive the same antidumping duty cash deposit rate as Shenzhen Benxun.

Instructions to the Customs Service

The cash deposit determination from this changed circumstances review will apply to all entries of the subject merchandise entered, or withdrawn from warehouse, for consumption on or after the date of publication of the final results of this changed circumstances review. See Notice of Final Results of Antidumping Duty Changed Circumstances Review: Pressure Sensitive Plastic Tape From Italy 69 FR 15297, 15298 (March 25, 2004), see also, Certain Hot-Rolled Lead and Bismuth Carbon Steel Products From the United Kingdom: Final Results of Changed-Circumstances Antidumping and Countervailing Duty Administrative Reviews 64 FR 66880, 66881 (November 30, 1999). This deposit rate shall remain in effect until publication of the final results of the next administrative review in which Shenzhen CSG participates.

Notification

This notice also serves as a reminder to parties subject to administrative protective orders (APOs) of their responsibility concerning the disposition of proprietary information disclosed under APO in accordance with section 351.306 of the Department's regulations. Timely written notification of the return/destruction of APO materials or conversion to judicial protective order is hereby requested. Failure to comply with the regulations and terms of an APO is a sanctionable violation. This notice is in accordance with sections 751(b) and 777(i)(1) of the Tariff Act of 1930, as amended, and section 351.221(c)(3)(i) of the Department's regulations.

Dated: July 14, 2004.
James J. Jochum,
Assistant Secretary for Import Administration.

[FR Doc. 04-16466 Filed 7-19-04; 8:45 am]

BILLING CODE 3510-DS-P